DEPARTMENT OF EDUCATION

Notice of waivers granted by the U.S. Secretary of Education under the waiver authority in Title XIV of the Elementary and Secondary Education Act and of deadlines for the submission of future requests

SUMMARY: The Elementary and Secondary Education Act (ESEA), as reauthorized by the Improving America's Schools Act (Pub. L. 103-382), permits the Secretary of Education to grant waivers of certain Federal program requirements in order to further effective innovation and improvements in teaching and learning in accordance with specific local needs. As of December 31, 1999, the U.S. Department of Education had approved 471 requests for waivers. This notice identifies the 104 waivers approved by the Department of Education from January 1, 1999 through December 31,1999 under the waiver authority in section 14401 of the ESEA.

Waivers Approved Under the General Waiver Authority in Section 14401 of the ESEA

(1) Applicant: California Department of Education, Sacramento, CA.

Requirement Waived: Section 307(c)(2)(C) of the Department of Education Appropriations Act of 1999, as enacted by section 101(f) of Division A of P.L. 105-277 (hereinafter referred to as the Class-Size legislation).

Duration of Waiver: Three years.

Date Granted: April 5, 1999.

(2) Applicant: Utah State Office of Education, Salt Lake City, UT.

Requirement Waived: Section 307(b)(2) of the Class-Size legislation.

Duration of Waiver: Three years.

Date Granted: April 15, 1999.

(3) Applicant: California Department of Education, Sacramento, CA.

Requirement Waived: Section 14201(a) of the ESEA.

Duration of Waiver: Three years.

Date Granted: May 13, 1999.

(4) Applicant: Pasco County School District on behalf of Schrader Elementary School, Hudson Elementary School, M.P. Locke Elementary School, and Anclote Elementary School, Land O' Lakes, FL.

Requirement Waived: Section 1113(a)(3)(B) of the ESEA.

Duration of Waiver: Two years.

Date Granted: May 19, 1999.

(5) Applicant: Lincoln County School District on behalf of Love Elementary School, Lincolnton, NC.

Requirement Waived: Section 1114(a)(1)(B) of the ESEA.

Duration of Waiver: Three years.

Date Granted: May 19, 1999.

(6) Applicant: South Carolina Department of Education, Columbia, SC.

Requirement Waived: Section 307(b)(2) of the Class-Size legislation.

Duration of Waiver: Three years.

Date Granted: June 1, 1999.

(7) Applicant: School District of Philadelphia, Philadelphia, PA.

Requirement Waived: Section 307(c)(2)(C) of the Class-Size legislation.

Duration of Waiver: Three years.

Date Granted: June 2, 1999.

(8) Applicant: Minnesota Department of Education, Roseville, MN.

Requirement Waived: Section 307(b)(2) of the Class-Size legislation.

Duration of Waiver: Three years.

Date Granted: June 2, 1999.

(9) Applicant: Missouri Department of Elementary and Secondary Education, Jefferson City, MI.

Requirement Waived: Section 307(b)(2) of the Class-Size legislation.

Duration of Waiver: Three years.

Date Granted: June 2, 1999.

(10) Applicant: North Dakota Department of Public Instruction, Bismarck, ND.

Requirement Waived: Section 307(b)(2) of the Class-Size legislation.

Duration of Waiver: Three years.

Date Granted: June 2, 1999.

(11) Applicant: Pennsylvania Department of Education on behalf of Fox Chapel Area School District, Pittsburgh, PA.

Requirement Waived: Section 307(c)(2)(C) of the Class-Size legislation.

Duration of Waiver: Three years.

Date Granted: June 3, 1999.

(12) Applicant: Fayette County Schools on behalf of Deep Springs Elementary School and Julia R. Ewan Elementary School, Lexington, KY.

Requirement Waived: Section 1114(a)(1)(B) of the ESEA.

Duration of Waiver: Three years.

Date Granted: June 7, 1999.

(13) Applicant: Seminole County Public Schools on behalf of Altamonte Elementary School, Longwood Elementary School, Forest City Elementary School, Highlands Elementary School, and Wilson Elementary School, Sanford, FL.

Requirement Waived: Section 1114(a)(1)(B) of the ESEA.

Duration of Waiver: Three years.

Date Granted: June 7, 1999.

(14) Applicant: Peoria Unified School District on behalf of Sun Valley Elementary School, Peoria, AZ.

Requirement Waived: Section 1113(a)(3)(B) of the ESEA.

Duration of Waiver: Two years.

Date Granted: June 7, 1999.

(15) Applicant: California Department of Education, Sacramento, CA.

Requirement Waived: Section 307(b)(2) of the Class-Size legislation.

Duration of Waiver: Three years.

Date Granted: June 8, 1999.

(16) Applicant: Wyoming Department of Education, Cheyenne, WY.

Requirement Waived: Section 307(b)(2) of the Class-Size legislation.

Duration of Waiver: Three years.

Date Granted: June 8, 1999.

(17) Applicant: Georgia Department of Education, Atlanta, GA.

Requirement Waived: Section 307(b)(2) of the Class-Size legislation.

Duration of Waiver: Three years.

Date Granted: June 8, 1999.

(18) Applicant: Washington Department of Education, Olympia, WA.

Requirement Waived: Section 307(b)(2) and 307(c)(2)(A)(iii) of the Class-Size legislation.

Duration of Waiver: Three years.

Date Granted: June 14, 1999.

(19) Applicant: Indiana Department of Education, Indianapolis, IN.

Requirement Waived: Section 307(b)(2) and 307(c)(2)(C) of the Class-Size legislation.

Duration of Waiver: Three years.

Date Granted: June 15, 1999.

(20) Applicant: New Hampshire Department of Education, Concord, NH.

Requirement Waived: Section 307(b)(2) of the Class-Size legislation.

Duration of Waiver: Three years.

Date Granted: June 15, 1999.

(21) Applicant: Cobb County Public Schools on behalf of Birney Elementary School and Compton Elementary School, Marietta, GA.

Requirement Waived: Section 1114(a)(1)(B) of the ESEA.

Duration of Waiver: Three years.

Date Granted: June 16, 1999.

(22) Applicant: Kentucky Department of Education on behalf of Glasgow Independent Schools, Glasgow, KY.

Requirement Waived: Section 1114(a)(1)(B) of the ESEA.

Duration of Waiver: Three years.

Date Granted: June 16, 1999.

(23) Applicant: Franklin County Schools on behalf of Carnesville Elementary School, Carnesville, GA.

Requirement Waived: Section 1114(a)(1)(B) of the ESEA.

Duration of Waiver: Three years.

Date Granted: June 16, 1999.

(24) Applicant: Ashworth Middle School, Calhoun, GA.

Requirement Waived: Section 1114(a)(1)(B) of the ESEA.

Duration of Waiver: Three years.

Date Granted: June 16, 1999.

(25) Applicant: Virginia Department of Education, Richmond, VA.

Requirement Waived: Section 307(b)(2) and 307(c)(2)(B) of the Class-Size legislation.

Duration of Waiver: Three years.

Date Granted: June 21, 1999.

(26) Applicant: Nebraska Department of Education, Lincoln, NE.

Requirement Waived: Section 307(b)(2) and 307(c)(2)(B) of the Class-Size legislation.

Duration of Waiver: Three years.

Date Granted: June 21, 1999.

(27) Applicant: Maine Department of Education, Augusta, ME.

Requirement Waived: Section 307(b)(2) of the Class-Size legislation.

Duration of Waiver: Three years.

Date Granted: June 21, 1999.

(28) Applicant: Kentucky Department of Education, Frankfort, KY.

Requirement Waived: Section 307(b)(2) of the Class-Size legislation.

Duration of Waiver: Three years.

Date Granted: June 21, 1999.

(29) Applicant: Oklahoma Department of Education, Oklahoma City, OK.

Requirement Waived: Section 307(b)(2) and 307(c)(2)(B) of the Class-Size legislation.

Duration of Waiver: Three years.

Date Granted: June 21, 1999.

(30) Applicant: Arizona Department of Education, Phoenix, AZ.

Requirement Waived: Section 307(b)(2) and 307(c)(2)(B) of the Class-Size legislation.

Duration of Waiver: Three years.

Date Granted: June 21, 1999.

(31) Applicant: Pennsylvania Department of Education on behalf of Brookville Area School District, Brookville, PA.

Requirement Waived: Section 1113(c)(2) of the ESEA.

Duration of Waiver: Three years.

Date Granted: June 22, 1999.

(32) Applicant: Pennsylvania Department of Education on behalf of Solanco School District, Quarryville, PA.

Requirement Waived: Section 1113(a)(2)(B) of the ESEA.

Duration of Waiver: Three years.

Date Granted: June 22, 1999.

(33) Applicant: Pennsylvania Department of Education on behalf of Middletown Area School District, Middletown, PA.

Requirement Waived: Section 1113(a)(2)(B) of the ESEA.

Duration of Waiver: Three years.

Date Granted: June 22, 1999.

(34) Applicant: Wisconsin Department of Public Instruction, Madison, WI

Requirement Waived: Section 307(b)(2), 307(c)(2)(B), and 307(c)(2)(C) of the Class-Size legislation.

Duration of Waiver: Three years.

Date Granted: June 24, 1999.

(34) Applicant: South Dakota Department of Education and Cultural Affairs, Pierre, SD.

Requirement Waived: Section 307(b)(2) of the Class-Size legislation.

Duration of Waiver: Three years.

Date Granted: June 24, 1999.

(36) Applicant: Arkansas Department of Education, Little Rock, AR.

Requirement Waived: Section 307(b)(2) of the Class-Size legislation.

Duration of Waiver: Three years.

Date Granted: June 25, 1999.

(37) Applicant: Rhode Island Department of Education, Providence, RI.

Requirement Waived: Section 307(b)(2) and 307(c)(2)(B) of the Class-Size legislation.

Duration of Waiver: Three years.

Date Granted: July 6, 1999.

(38) Applicant: Panther Valley School District, Lansford, PA.

Requirement Waived: Section 1127(b) of the ESEA.

Duration of Waiver: One year

Date Granted: July 7, 1999.

(39) Applicant: Garnet Valley School District, Glen Mills, PA.

Requirement Waived: Section 307(b)(2) of the Class-Size legislation.

Duration of Waiver: Three years.

Date Granted: July 7, 1999.

(40) Applicant: Lower Merion School District on behalf of Belmont Hills Elementary School, Merion Elementary School and Cynwyd Elementary School, Ardmore, PA.

Requirement Waived: Section 1113(a)(2)(B) of the ESEA.

Duration of Waiver: Three years.

Date Granted: July 12, 1999.

(41) Applicant: South Carolina Department of Education, Columbia, SC

Requirement Waived: Section 1114(a)(1)(B) of the ESEA.

Duration of Waiver: One year

Date Granted: July 12, 1999.

(42) Applicant: Tennessee Department of Education, Nashville, TN.

Requirement Waived: Section 307(b)(2) of the Class-Size legislation.

Duration of Waiver: Three years.

Date Granted: July 12, 1999.

(43) Applicant: New Jersey Department of Education, Trenton, NJ.

Requirement Waived: Section 307(b)(2) of the Class-Size legislation.

Duration of Waiver: Three years.

Date Granted: July 12, 1999.

(44) Applicant: Riverview School District on behalf of Tenth Street School, Oakmont, PA.

Requirement Waived: Section 1113(a)(2)(B) of the Class-Size legislation.

Duration of Waiver: Three years.

Date Granted: July 12, 1999.

(45) Applicant: Hartville R-11 School District, Hartville, MO.

Requirement Waived: Section 307(c)(2)(C) of the Class-Size legislation.

Duration of Waiver: Three years.

Date Granted: July 12, 1999.

(46) Applicant: Mississippi Department of Education, Jackson, MS.

Requirement Waived: Section 307(b)(2) of the Class-Size legislation.

Duration of Waiver: Three years.

Date Granted: July 12, 1999.

(47) Applicant: Alaska Department of Education, Juneau, AK.

Requirement Waived: Section 307(b)(2) of the Class-Size legislation.

Duration of Waiver: Three years.

Date Granted: July 12, 1999.

(48) Applicant: Minnesota Department of Education, Roseville, MN.

Requirement Waived: Section 307(c) of the Class-Size legislation.

Duration of Waiver: Three years.

Date Granted: July 12, 1999.

(49) Applicant: Alabama Department of Education, Montgomery, AL

Requirement Waived: Section 307(b)(2)(C) of the Class-Size legislation.

Duration of Waiver: Three years.

Date Granted: July 12, 1999.

(50) Applicant: Connecticut State Department of Education, Hartford, CT.

Requirement Waived: Section 307(b)(2) of the Class-Size legislation.

Duration of Waiver: Three years.

Date Granted: July 12, 1999.

(51) Applicant: Pennsylvania Department of Education on behalf of Berwick Area School District, Berwick, PA.

Requirement Waived: Section 1113(a)(2)(b) of the ESEA.

Duration of Waiver: Three years.

Date Granted: July 14, 1999.

(52) Applicant: Centralia School District on behalf of Oakview Elementary, Centralia, WA.

Requirement Waived: Section 1114(a)(1)(B) of the ESEA.

Duration of Waiver: Three years.

Date Granted: July 14, 1999.

(52) Applicant: West Perry School District on behalf of Green Park and Carroll Elementary, Elliottsburg, PA.

Requirement Waived: Section 1113(a)(2)(B) of the ESEA.

Duration of Waiver: Three years.

Date Granted: July 14, 1999.

(53) Applicant: Kiski Area School District-II on behalf of Bell Township Elementary, Vandergrift, PA.

Requirement Waived: Section 1114(a)(1)(B) of the ESEA.

Duration of Waiver: Three years.

Date Granted: July 14, 1999.

(54) Applicant: Wisconsin Department of Public Instruction on behalf of the School District of Baraboo, Baraboo, WI.

Requirement Waived: Section 1113(a)(2)(B) of the ESEA.

Duration of Waiver: Three years.

Date Granted: July 14, 1999.

(56) Applicant: Delaware Department of Education, Dover, DE.

Requirement Waived: Section 307(b)(2) of the Class-Size legislation.

Duration of Waiver: Three years.

Date Granted: July 20, 1999.

(57) Applicant: Upper Adams School District, Biglerville, PA.

Requirement Waived: Section 307(c)(2)(C) of the Class-Size legislation.

Duration of Waiver: Three years.

Date Granted: July 22, 1999.

(58) Applicant: Falls City Public Schools, Falls City, NE.

Requirement Waived: Section 307(c)(2)(C) of the Class-Size legislation.

Duration of Waiver: Three years.

Date Granted: July 22, 1999.

(59) Applicant: Arundel School Department, Arundel, ME.

Requirement Waived: Section 307(c)(2)(C) of the Class-Size legislation.

Duration of Waiver: Three years.

Date Granted: July 22, 1999.

(60) Applicant: Wisconsin Department of Public Instruction on behalf of the School District of Wautoma, Madison, WI.

Requirement Waived: Section 1114(a)(1)(B) of the ESEA.

Duration of Waiver: Three years.

Date Granted: July 26, 1999.

(61) Applicant: Citrus County School Board, Inverness, FL.

Requirement Waived: Section 307(c)(2)(C) of the Class-Size legislation.

Duration of Waiver: Three years.

Date Granted: August 5, 1999.

(62) Applicant: Columbia County School System, Lake City, FL.

Requirement Waived: Section 307(c)(2)(C) of the Class-Size legislation.

Duration of Waiver: Three years.

Date Granted: August 5, 1999.

(63) Applicant: Hawaii Department of Education on behalf of Ilima Intermediate School, Honolulu, HI.

Requirement Waived: Section 1114(a)(1)(B) of the ESEA.

Duration of Waiver: Three years.

Date Granted: August 5, 1999.

(64) Applicant: Spartanburg County School District #2 on behalf of Hendrix Elementary School, Boiling Springs, SC.

Requirement Waived: Section 1114(a)(1)(B) of the ESEA.

Duration of Waiver: One year.

Date Granted: August 5, 1999.

(65) Applicant: Taliaferro County School System, Crawfordville, GA.

Requirement Waived: Section 307(c)(2)(C) of the Class-Size legislation.

Duration of Waiver: Three years.

Date Granted: August 9, 1999.

(66) Applicant: Habersham County School System, Clarkeville, GA.

Requirement Waived: Section 307(c)(2)(C) of the Class-Size legislation.

Duration of Waiver: Three years.

Date Granted: August 9, 1999.

(67) Applicant: Centralia School District on behalf of Fords Prairie Elementary School, Centralia, WA.

Requirement Waived: Section 1114(a)(1)(B) of the ESEA.

Duration of Waiver: Three years.

Date Granted: August 10, 1999.

(68) Applicant: Centralia School District on behalf of Centralia Middle School, Centralia, WA.

Requirement Waived: Section 1114(a)(1)(B) of the ESEA.

Duration of Waiver: Three years.

Date Granted: August 10, 1999.

(69) Applicant: Virginia Department of Education, Richmond, VA.

Requirement Waived: Section 2206(b) of the ESEA.

Duration of Waiver: Two years.

Date Granted: August 10, 1999.

(70) Applicant: Jackson County Public Schools on behalf of Scotts Creek Elementary School, Sylvia, NC.

Requirement Waived: Section 1114(a)(1)(B) of the ESEA.

Duration of Waiver: Three years.

Date Granted: August 11, 1999.

(71) Applicant: New York State Department of Education, Albany, NY.

Requirement Waived: Section 307(c)(2)(C) of the Class-Size legislation.

Duration of Waiver: Three years.

Date Granted: August 16, 1999.

(72) Applicant: Louisiana Department of Education, Baton Rouge, LA.

Requirement Waived: Section 307(b)(2) of the Class-Size legislation.

Duration of Waiver: Three years.

Date Granted: August 17, 1999.

(73) Applicant: School District of Philadelphia, Philadelphia, PA.

Requirement Waived: Section 1113(c)(1) of the ESEA.

Duration of Waiver: Three years.

Date Granted: August 20, 1999.

(74) Applicant: Highline School District 401, Burien, WA.

Requirement Waived: Section 307(c)(4) of the Class-Size legislation.

Duration of Waiver: Three years.

Date Granted: August 20, 1999.

(75) Applicant: Kent Elementary School, Kent, WA.

Requirement Waived: Section 1114(a)(1)(B) of the ESEA.

Duration of Waiver: Three years.

Date Granted: August 20, 1999.

(76) Applicant: Pickens County Board of Education on behalf of Pickens County Middle School, Jasper, GA.

Requirement Waived: Section 1114(a)(1)(B) of the ESEA.

Duration of Waiver: Three years.

Date Granted: August 20, 1999.

(77) Applicant: District of Columbia Public Schools on behalf of Brent Elementary School, Oyster Elementary School, Bunker Hill Elementary School, Paul Junior High School, and Roosevelt High School, Washington, DC.

Requirement Waived: Section 1114(a)(1)(B) of the ESEA.

Duration of Waiver: Three years.

Date Granted: August 20, 1999.

(78) Applicant: California Department of Education, Sacramento, CA.

Requirement Waived: Section 11004(a) of the ESEA.

Duration of Waiver: Two years.

Date Granted: August 20, 1999.

(79) Applicant: North Carolina Department of Public Instruction, Raleigh, NC.

Requirement Waived: Section 307(c)(2)(C) and 307(b)(2) of the Class-Size legislation.

Duration of Waiver: Three years.

Date Granted: August 23, 1999.

(80) Applicant: Florida Department of Education, Tallahassee, FL.

Requirement Waived: Section 307(c)(2)(C) of the Class-Size legislation.

Duration of Waiver: Three years.

Date Granted: August 30, 1999.

(81) Applicant: Iron County C-4 School District, Viburnum, MO.

Requirement Waived: Section 307(c)(2)(C) of the Class-Size legislation.

Duration of Waiver: Three years.

Date Granted: August 30, 1999.

(82) Applicant: Hawaii Department of Education on behalf of Maui Waena Intermediate School, Honolulu, HI.

Requirement Waived: Section 1114(a)(1)(B) of the ESEA

Duration of Waiver: Three years.

Date Granted: September 1, 1999.

(83) Applicant: Mississippi Department of Education, Jackson, MS.

Requirement Waived: Section 307(c)(2)(C) of the Class-Size legislation.

Duration of Waiver: Three years.

Date Granted: September 8, 1999.

(84) Applicant: Bangor School Department, Bangor, ME.

Requirement Waived: Section 307(c)(2)(C) of the Class-Size legislation.

Duration of Waiver: Three years.

Date Granted: September 8, 1999.

(85) Applicant: District of Columbia Public Schools, Washington, DC.

Requirement Waived: Section 307(b)(2) of the Class-Size legislation.

Duration of Waiver: Three years.

Date Granted: September 13, 1999.

(86) Applicant: Maine School Administrative District No.28, Camdem, ME.

Requirement Waived: Section 307(c)(2)(C) of the Class-Size legislation.

Duration of Waiver: Three years.

Date Granted: September 13, 1999.

(87) Applicant: Berlin Public Schools, Berlin, NH.

Requirement Waived: Section 307(c)(2)(C) of the Class-Size legislation.

Duration of Waiver: Three years.

Date Granted: September 13, 1999.

(88) Applicant: Kansas State Department of Education, Topeka, KS.

Requirement Waived: Section 1003(a) of the ESEA.

Duration of Waiver: One year.

Date Granted: September 15, 1999.

(89) Applicant: Bisbee Unified School District #2, Bisbee, AZ.

Requirement Waived: Section 307(c)(2)(C) of the Class-Size legislation.

Duration of Waiver: Three years.

Date Granted: September 20, 1999.

(90) Applicant: Oklahoma State Department of Education, Oklahoma City, OK.

Requirement Waived: Section 307(c)(2)(C) of the Class-Size legislation.

Duration of Waiver: Three years.

Date Granted: September 27, 1999.

(91) Applicant: Cache Public Schools, Cache, OK.

Requirement Waived: Section 307(c)(2)(C) of the Class-Size legislation.

Duration of Waiver: Three years.

Date Granted: September 27, 1999.

(92) Applicant: New Jersey Department of Education, Trenton, NJ.

Requirement Waived: Section 2209(b)(1)(C) of the ESEA.

Duration of Waiver: Three years.

Date Granted: October 6, 1999.

(93) Applicant: Southern Reynolds County R-II School District, Ellington, MO.

Requirement Waived: Section 307(c)(2)(C) of the Class-Size legislation.

Duration of Waiver: Three years.

Date Granted: October 9, 1999.

(94) Applicant: Orange County Public Schools, Orange, VA.

Requirement Waived: Section 1114(a)(1)(B) of the ESEA.

Duration of Waiver: Three years.

Date Granted: October 29, 1999.

(95) Applicant: School Administrative District #58, Kingfield, ME.

Requirement Waived: Section 307(c)(2)(C) of the Class-Size legislation.

Duration of Waiver: Three years.

Date Granted: December 3, 1999.

(96) Applicant: Oktaha Public Schools, Oktaha, OK.

Requirement Waived: Section 307(c)(2)(C) of the Class-Size legislation.

Duration of Waiver: Three years.

Date Granted: December 10, 1999.

(97) Applicant: Oil City Area School District, Oil City, PA.

Requirement Waived: Section 1113(c)(1) of the ESEA.

Duration of Waiver: Three years.

Date Granted: December 14, 1999.

(98) Applicant: School District of Fort Atkinson, Fort Atkinson, WI.

Requirement Waived: Section 1113(a)(2) of the ESEA.

Duration of Waiver: Three years.

Date Granted: December 14, 1999.

(99) Applicant: Clover Park School District on behalf of Park Lodge Elementary School, Lakewood, WA.

Requirement Waived: Section 1114(a)(1)(B) and 1113(b)(1)(C) of the ESEA.

Duration of Waiver: Three years.

Date Granted: December 21, 1999.

(100) Applicant: Northern York County School, Dillsburg, PA.

Requirement Waived: Section 1113(a)(2)(B) of the ESEA.

Duration of Waiver: Three years.

Date Granted: December 21, 1999.

(101) Applicant: Red Lion Area School District, Red Lion, PA.

Requirement Waived: Section 1113(a)(2)(B) of the ESEA.

Duration of Waiver: Three years.

Date Granted: December 22, 1999.

(102) Applicant: Snowline Joint Unified School District, Phelan, CA.

Requirement Waived: Section 307(c)(4) of the Class-Size legislation.

Duration of Waiver: Three years.

Date Granted: December 30, 1999.

(103) Applicant: Fontana Unified School District, Fontana, CA.

Requirement Waived: Section 307(c)(4) of the Class-Size legislation.

Duration of Waiver: Three years.

Date Granted: December 30, 1999.

(104) Applicant: Midd-West School District, Middleburg, PA.

Requirement Waived: Section 1113(a)(2)(B) of the ESEA.

Duration of Waiver: Three years.

Date Granted: December 30, 1999.

DEADLINES FOR APPLYING FOR A WAIVER: As established in the Federal Register on September 23, 1999 (Vol. 64 FR 51528), the requests for waivers that would be implemented and affect school level activities beginning with the 2000-2001 school year must have been submitted to the Department in substantially approvable form no later than April 1, 2000. Requests for waivers that would be implemented and affect school-level activities beginning with the semester immediately following January 1, 2001 must be submitted to the Department in substantially approvable form no later than October 1, 2000. Requests for waivers that would be implemented and affect school-level activities beginning with the 2001-2002 school year must be submitted to the Department of Education in substantially approvable form no later than April 1, 2001.

FOR FURTHER INFORMATION CONTACT: Carla Kirksey at the Department's Waiver Assistance Line, (202) 401-7801. The Department's Waiver Guidance, which provides examples of waivers, explains the waiver authorities in detail, and describes how to apply for a waiver, is also available at this number. The Guidance and other information on flexibility are available at the Department's World Wide Web site at http://www.ed.gov/flexibility.

If you use a telecommunications device for the deaf (TDD) you may call the Federal Information Relay Service (FIRS) at 1-888-877-8339.

Individuals with disabilities may obtain this document in an alternate format (e.g., Braille, large print, audiotape, or computer diskette) on request to the contact person listed in the preceding paragraph.

Electronic Access to this Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office toll free at 1-888-293-6498; or in the Washington, DC, area at (202) 512-1530.

Note: The official version of this document is the document published in the Federal Register. Free Internet access to the official edition of the Federal Register and the Code of Federal Regulations is available on GPO Access at:

http:www.access.gpo.gov/nara/index.html

Dated: April 26, 2000.
Michael Cohen,
Assistant Secretary, Elementary and Secondary Education.

[FR Doc. 00-10904 Filed 5-1-00; 8:45 am]

BILLING CODE 4000-01-U